DEPARTMENT OF LABOR

Employment and Training Administration

[TA-W-64,483]

Fisher & Company, Inc. Corporate Office, St. Clair Shores, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 26, 2008, applicable to workers of Fisher & Company, Inc., Corporate Office, St. Clair Shores, Michigan. The notice was published in the Federal Register on December 10, 2008 (73 FR 75137).

At the request of the State agency, the Department reviewed the certification for workers of the subject firm. The workers are engaged in administrative and support functions for recliner mechanisms for automobile seats.

Findings show that there was a previous certification, TA-W-60,421, issued on December 18, 2006, for the workers of the Corporate Office, St. Clair Shores, Michigan location of the subject firm. That certification expires December 18, 2008. To avoid an overlap in worker group coverage for the workers of the Corporate Office, St. Clair Shores, Michigan location, the certification is being amended to change the impact date from November 19, 2007 to December 19, 2008.

Accordingly, the Department is amending the certification to properly reflect this matter.

The intent of the Department's certification is to include all workers of Fisher & Company, Inc., Corporate Office who were adversely affected by a shift in production of recliner mechanisms for automobile seats to Mexico.

The amended notice applicable to TA-W-64,483 is hereby issued as follows:

All workers of Fisher & Company, Inc., Corporate Office, St, Clair Shores, Michigan, who became totally or partially separated from employment on or after December 19, 2008 through November 26, 2010, are eligible to apply for adjustment assistance under Section 223 of the Trade Act of 1974, and are also eligible to apply for alternative trade adjustment assistance under Section 246 of the Trade Act of 1974.

Signed at Washington, DC, this 24th day of December 2008.
Richard Church,
Certifying Officer, Division of Trade Adjustment Assistance.

[FR Doc. E8-31335 Filed 1-5-09; 8:45 am]

BILLING CODE 4510-FN-P